DEPARTMENT OF COMMERCE

National Oceanic and Atmospheric Administration

[RTID 0648-XE625]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a joint webinar meeting of its Groundfish Management Team (GMT) and its Groundfish Advisory Subpanel (GAP). The GMT and the GAP will discuss items on the Pacific Council's March 2025 meeting agenda and other items. This meeting is open to the public.

DATES: The joint GMT/GAP online meeting will be held on Wednesday, February 19, 2025, from 10 a.m. to 1 p.m., Pacific Time. The scheduled ending times for this meeting is an estimate. The meeting will adjourn when business for the day is completed.

ADDRESSES: This meeting will be held online. Specific meeting information, including directions on how to attend the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Jessi Waller, Staff Officer, Pacific Council; jessi.waller@noaa.gov, telephone: (503) 820-2426.

SUPPLEMENTARY INFORMATION: The primary purpose of the GMT and GAP webinar is to prepare for the Pacific Council's March 2025 meeting agenda items. This joint meeting is expected to focus on groundfish agenda items.

A detailed agenda for the webinar will be available on the Pacific Council's website prior to the meeting. The GMT and GAP may also address other assignments relating to groundfish management. No management actions will be decided by the GMT and GAP.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: January 24, 2025.
Rey Israel Marquez,
Acting Deputy Director, Office of Sustainable Fisheries, National Marine Fisheries Service.

[FR Doc. 2025-01879 Filed 1-28-25; 8:45 am]

BILLING CODE 3510-22-P